ENVIRONMENTAL PROTECTION AGENCY

40 CFR Part 300

[FRL-7117-9]

National Oil and Hazardous Substance Pollution Contingency Plan; National Priorities List Update

AGENCY: Environmental Protection Agency.

ACTION: Notice of deletion of the McAdoo Associates Superfund Site from the National Priorities List.

SUMMARY: The Environmental Protection Agency (EPA) Region III announces the deletion of the McAdoo Associates Superfund Site (Site), located in McAdoo Borough, Schuylkill County, Commonwealth of Pennsylvania, from the National Priorities List (NPL).

The NPL, promulgated pursuant to section 105 of the Comprehensive Environmental Response, Compensation, and Liability Act of 1980, as amended (CERCLA), 33 U.S.C. 9605, is appendix B of the National Oil and Hazardous Substances Pollution Contingency Plan (NCP), 40 CFR part 300. EPA and the Commonwealth of Pennsylvania, through the Pennsylvania Department of Environmental Protection, have determined that the site no longer poses a significant threat to public health or the environment and that all appropriate response actions under CERCLA have been completed. Monitoring of on-site wells, and five-year reviews to ensure that the site remains protective of public health and the environment will continue to be conducted.

EFFECTIVE DATE: December 13, 2001.

ADDRESSES: Comprehensive information on this site is available for viewing at the Site Information Repositories at the following locations: U.S. EPA, Region III, Regional Center for Environmental Information, 1650 Arch Street, Philadelphia, Pennsylvania 19103, (215) 814-5254 or (800) 553-2509, Monday through Friday 8 a.m. to 4:30 p.m.; McAdoo-Kelayers Library, 15 Kelayers Road, McAdoo, Pennsylvania 18237, (570) 929-1120;

FOR FURTHER INFORMATION CONTACT: Eugene Dennis (3HS21), Remedial Project Manager, U.S. Environmental Protection Agency, Region III, 1650 Arch Street, Philadelphia, PA 19103-2029; (215) 814-3202 or 1-800-553-2509; e-mail address: dennis.eugene@epa.gov.

SUPPLEMENTARY INFORMATION: The site to be deleted from the NPL is: McAdoo Associates Site, McAdoo Borough, Schuylkill County, Commonwealth of Pennsylvania.

A Notice of Intent to Delete for this site was published in the Federal Register on October 3, 2001, 66 FR 48018. The closing date for comments on the Notice of Intent to Delete was November 2, 2001. EPA received no comments during the comment period.

EPA identifies sites that appear to present a significant risk to public health, welfare, or the environment and it maintains the NPL as the list of those sites. Any site deleted from the NPL remains eligible for Fund-financed remedial actions in the unlikely event that conditions at the site warrant such action. Section 300.425(e)(3) of the NCP states that Fund-financed actions may be taken at sites deleted from the NPL. Deletion of a site from the NPL does not affect responsible party liability or impede agency efforts to recover costs associated with response efforts.

List of Subjects in 40 CFR Part 300

Environmental protection, Air pollution control, Chemicals, Hazardous waste, Hazardous substances, Intergovernmental relations, Penalties, Reporting and recordkeeping requirements, Superfund, Water pollution control, Water supply.

Dated: November 21, 2001.
Abraham Ferdes,
Acting Regional Administrator, Region III.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p.351; E.O. 12580, 52 FR 2923, 3 CFR, 1987 Comp., p.193.

Appendix B—[Amended]

2. Table 1 of appendix B to part 300 is amended under Pennsylvania (“PA”) by removing the entry for “McAdoo Associates, McAdoo Borough”.

[FR Doc. 01-30819 Filed 12-12-01; 8:45 am]

BILLING CODE 6560-50-P